DEPARTMENT OF THE INTERIOR

Bureau of Land Management

[LLWO3200000 19900000 PO000000 13X]

Renewal of Approved Information Collection

AGENCY: Bureau of Land Management, Interior.

ACTION: 30-day notice and request for comments.

SUMMARY: The Bureau of Land Management (BLM) has submitted an information collection request to the Office of Management and Budget (OMB) to continue the collection of information that assists the BLM in managing operations authorized by the mining laws, in preventing unnecessary or undue degradation of public lands, and in obtaining financial guarantees for the reclamation of public lands. The Office of Management and Budget (OMB) previously approved this information collection activity, and assigned it control number 1004-0194.

DATES: The OMB is required to respond to this information collection request within 60 days but may respond after 30 days. For maximum consideration, written comments should be received on or before August 5, 2013.

ADDRESSES: Please submit comments directly to the Desk Officer for the Department of the Interior (OMB #1004-0194), Office of Management and Budget, Office of Information and Regulatory Affairs, fax 202-395-5806, or by electronic mail at OIRA_submission@omb.eop.gov. Please provide a copy of your comments to the BLM. You may do so via mail, fax, or electronic mail.

Mail: U.S. Department of the Interior, Bureau of Land Management, 1849 C Street NW., Room 2134LM, Attention: Jean Sonneman, Washington, DC 20240.

Fax: to Jean Sonneman at 202-245-0050.

Electronic mail: Jean_Sonneman@blm.gov.

Please indicate “Attn: 1004-0194” regardless of the form of your comments.

FOR FURTHER INFORMATION CONTACT: Adam Merrill, at 202-912-7044. Persons who use a telecommunication device for the deaf may call the Federal Information Relay Service at 1-800-877-8339, to leave a message for Mr. Merrill. You may also review the information collection request online at http://www.reginfo.gov/public/do/PRAMain.

SUPPLEMENTARY INFORMATION: The Paperwork Reduction Act (44 U.S.C. 3501-3521) and OMB regulations at 5 CFR part 1320 provide that an agency may not conduct or sponsor a collection of information unless it displays a currently valid OMB control number. Until OMB approves a collection of information, you are not obligated to respond. In order to obtain and renew an OMB control number, Federal agencies are required to seek public comment on information collection and recordkeeping activities (see 5 CFR 1320.8(d) and 1320.12(a)).

As required at 5 CFR 1320.8(d), the BLM published a 60-day notice in the Federal Register on March 8, 2013 (78 FR 15040), and the comment period ended May 7, 2013. The BLM received no comments. The BLM now requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments as directed under ADDRESSES and DATES. Please refer to OMB control number 1004-0194 in your correspondence. Before including your address, phone number, email address, or other personal identifying information in your comment, you should be aware that your entire comment—including your personal identifying information—may be made publicly available at any time. While you can ask us in your comment to withhold your personal identifying information from public review, we cannot guarantee that we will be able to do so.

The following information is provided for the information collection:

Title: Surface Management Activities under the General Mining Law (43 CFR subpart 3809).

Forms:

• Form 3809-1, Surface Management Surety Bond;

• Form 3809-2, Surface Management Personal Bond;

• Form 3809-4, Bond Rider Extending Coverage of Bond to Assume Liabilities for Operations Conducted by Parties Other Than the Principal;

• Form 3809-4a, Surface Management Personal Bond Rider; and

• Form 3809-5, Notification of Change of Operator and Assumption of Past Liability.

OMB Control Number: 1004-0194

Abstract: The collection of information under 43 CFR subpart 3809 enables the BLM to determine whether operators and mining claimants are meeting their responsibility, under FLPMA, to prevent unnecessary or undue degradation while conducting exploration and mining activities on public lands. It also enables the BLM to obtain financial guarantees for the reclamation of public lands.

Frequency: On occasion.

Description of Respondents: Operators and mining claimants.

Estimated Number of Responses Annually: 1,495.

Estimated Reporting and Recordkeeping “Hour” Burden Annually: 183,808.

Estimated Reporting and Recordkeeping “Non-Hour Cost” Burden Annually: $4,780 for notarizing Forms 2809-2 and 3809.4a.

The estimated annual burdens for this collection are itemized in the following table:

Estimated Annual Burdens for Control Number 1004-0194
Type of response and 43 CFR citation | Number of responses | Hours per response | Total hours (column B × column C)
A. | B. | C. | D.
Initial or Extended Plan of Operations (3809.11) | 49 | 320 | 15,680
Data for EIS (3809.401(c)) | 5 | 4,960 | 24,800
Data for Standard EA (3809.401(c)) | 15 | 890 | 13,350
Data for Simple Exploration EA (3809.401(c)) | 29 | 320 | 9,280
Modification of Plan of Operations (3809.430 and 3809.431) | 107 | 320 | 34,240
Data for EIS (3809.432(a) and 3809.401(c)) | 2 | 4,960 | 9,920
Data for Standard EA (3809.432(a) and 3809.401(c)) | 35 | 890 | 31,150
Data for Simple Exploration EA (3809.432(a) and 3809.401(c)) | 70 | 320 | 22,400
Notice of Operations (3809.21) | 396 | 32 | 12,672
Modification of Notice of Operations (3809.330) | 167 | 32 | 5,344
Extension of Notice of Operations (3809.333) | 140 | 1 | 140
Surface Management Surety Bond, Form 3809-1 (3809.500) | 28 | 8 | 224
Surface Management Personal Bond, Form 3809-2 (3809.500) | 170 | 8 | 1,360
Bond Rider Extending Coverage of Bond, Form 3809-4 (3809.500) | 25 | 8 | 200
Surface Management Personal Bond Rider, Form 3809-4a (3809.500) | 69 | 8 | 552
Notification of Change of Operator and Assumption of Past Liability, Form 3809-5 (3809.116) | 52 | 8 | 416
Notice of State Demand Against Financial Guarantee (3809.573) | 1 | 8 | 8
Request for BLM Acceptance of Replacement Financial Instrument (3809.581) | 13 | 8 | 104
Request for Reduction in Financial Guarantee and/or BLM Approval of Adequacy of Reclamation (3809.590) | 78 | 8 | 624
Response to Notice of Forfeiture of Financial Guarantee (3809.596) | 13 | 8 | 104
Appeals to the State Director (3809.800) | 30 | 40 | 1200
Federal/State Agreements (3809.200) | 1 | 40 | 40
Totals | 1,495 |  | 183,808

Jean Sonneman,
Bureau of Land Management, Information Collection Clearance Officer.

[FR Doc. 2013-16133 Filed 7-3-13; 8:45 am]

BILLING CODE 4310-84-P